DEPARTMENT OF TRANSPORTATION

Pipeline and Hazardous Materials Safety Administration

Hazardous Materials: Notice of Applications for New Special Permits

AGENCY: Pipeline and Hazardous Materials Safety Administration (PHMSA), Transportation (DOT).

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before October 12, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on September 2, 2021.
Donald P. Burger,
Chief, General Approvals and Permits Branch.

Special Permits Data
Application No. | Applicant | Regulation(s) affected | Nature of the special permits thereof
21274-N | CF Industries Sales, LLC | 172.401, 172.502 | To authorize the transportation in commerce of nitric acid mixtures with nitric acid concentrations of equal to or greater than 64.5% and less than 65.0% as having a Division 5.1 subsidiary hazard. (modes 1, 2).
21279-N | Davey Bickford USA, Inc | 173.56(b) | To authorize the transportation in commerce of certain explosives utilizing a shipping description that has not yet been incorporated into the HMR. (modes 1, 4).
21280-N | Crown Cork & Seal USA, Inc | 178.33a-7 | To authorize the manufacture, marking, sale, and use of non-DOT specification containers conforming with all regulations applicable to a DOT specification 2Q inner metal receptacle except for wall thickness, for the transportation in commerce of certain Division 2.1 and 2.2 aerosols. (modes 1, 2, 3, 4, 5).
21281-N | South/Win, LLC | 173.156(c)(1)(iv) | To authorize the transportation in commerce of limited quantities of certain hazardous materials on pallets that weight 1,350 pounds. (mode 1).
21282-N | The Boeing Company | 178.47 | To authorize the transportation in commerce of DOT 4DS cylinders that have not been tested as required by 49 CFR 178.47. (mode 1).
21283-N | Gas Innovations Inc. | 173.315 | To authorize the transportation in commerce of cryogenic ethane in tank cars via rail freight. (mode 2).
21284-N | General Motors LLC | 173.185(a)(1) | To authorize the transportation in commerce via motor vehicle of production batteries that have not been proven to be of a type that meets the testing requirements of the UN Manual of Test and Criteria Section 38.3. (mode 1).

[FR Doc. 2021-19461 Filed 9-8-21; 8:45 am]

BILLING CODE 4909-60-P